DEPARTMENT OF THE INTERIOR

Bureau of Land Management

[NV-056-5853-EU; N-78219, 7-08807]

Notice of Realty Action: Direct Sale of Public Lands in Clark County, NV

AGENCY: Bureau of Land Management, Interior.

ACTION: Notice of realty action.

SUMMARY: The Bureau of Land Management (BLM) proposes to sell by direct sale, two parcels of public land aggregating approximately 10.0 acres, more or less, in the Las Vegas Valley, Nevada, within the City of Henderson in Clark County, to M Holdings, LLC. The sale will be under the authority of the Southern Nevada Public Land Management Act of 1998 (Public Law 105-263, 112 Stat. 2343), as amended, (“SNPLMA”). The land will be offered noncompetitively as a direct sale in accordance with the applicable provisions of Sections 203 and 209 of the Federal Land Policy and Management Act of 1976 (FLPMA) (43 U.S.C. 1713 and 1719), and the BLM's land sale and mineral conveyance regulations at 43 CFR parts 2710 and 2720 at not less than the appraised Fair Market Value (FMV) of the parcels.

DATES: Comments regarding the proposed sale, including comments regarding the environmental assessment (EA), must be received by BLM on or before February 1, 2007.

ADDRESSES: Comments regarding the proposed sale should be addressed to: Field Manager, Las Vegas Field Office, Bureau of Land Management, 4701 N. Torrey Pines Drive, Las Vegas, Nevada 89130.

More detailed information regarding the proposed sale and the land involved, including the environmental studies and reports, may be reviewed during normal business hours (7:30 a.m. to 4:30 p.m.) at the BLM's Las Vegas Field Office (LVFO).

FOR FURTHER INFORMATION CONTACT: You may contact Anna Wharton, Supervisory Realty Specialist at (702) 515-5082. You may also call (702) 515-5000 and ask to have your call directed to a member of the Sales Team.

SUPPLEMENTARY INFORMATION: The land is located in the City of Henderson, Nevada, and there is no physical and legal access to the parcels.

Land Proposed for Sale:

Mount Diablo Meridian, Nevada

T. 23 S., R. 61 E.,

Section 9, S½SE¼NW¼NW¼ and Nl/2SWl/4SEl/4NWl/4.

The lands described above contain 10.0 acres, more or less.

The City of Henderson wishes to address critical transportation needs and further enhance the gateway to the City by eliminating a truck stop and fuel refilling facility adjacent to the St. Rose Parkway/Las Vegas Boulevard/Haven road interchange. The City of Henderson, by letters dated March 21, 2006 and April 17, 2006, has proposed that 10.0 acres of public lands be sold to M Holdings, LLC (MHLLC). Consistent with these goals and the City of Henderson's approved development and design standards, MHLLC has acquired, and is the owner of record for most of the remaining lands surrounding the subject Federal parcels, including the truck stop and related facilities. As such, MHLLC controls physical and legal access to both parcels, and MHLLC has worked cooperatively with the City of Henderson, including entering into appropriate transportation and access agreements as part of an overall redevelopment plan for the surrounding land. The City of Henderson has applied for a lease and/or patent pursuant to the authority of the Recreation and Public Purposes Act of 1926, as amended, for other public lands adjacent to the subject Federal parcels, in furtherance of this planned project.

The project, known as the M Resort, will be built at the southeast corner of Las Vegas Boulevard and St. Rose Parkway. The master planned M. Resort is to include the development of an Urban Village with 1,900 condominium units, retail space, a 5,000-seat amphitheater, a fire station and a public park. The subject Federal parcels consist of two 5-acre parcels. One of the parcels will be incorporated into a public parking garage that will support overall development. The second 5-acre parcel will be included as a portion of the proposed convention center adjacent to the planned hotel. Collectively, these parcels are integral components of the overall 72-acre development approved by the City of Henderson. Through extensive collaboration and partnership with the City of Henderson, MHLLC has agreed to provide extensive off-site utility and roadway improvements in excess of $30 million. MHLLC will be responsible for financing and constructing all infrastructure improvements including major roadway improvements and a new fire station, public parking garage and convention center, and a public park.

Federal regulations governing sales of lands at 43 CFR 2711.3-3 state that (a) “Direct sales (without competition) may be utilized, when in the opinion of the authorized officer, a competitive sale is not appropriate and the public interest would best be served by direct sale.” Examples include, but are not limited to a tract identified for sale that is an integral part of a project of public importance and speculative bidding would jeopardize a timely completion and economic viability of the project, and circumstances where the adjoining ownership pattern and access indicate a direct sale is appropriate.”

Because MHLLC owns the adjacent private parcels, controls access to the Federal parcels, and is involved with a larger master-planned project involving the City of Henderson, the authorized officer has concluded that a direct sale is warranted.

The proposed sale is consistent with the BLM's Las Vegas Resource Management Plan and would serve important public objectives which cannot be achieved prudently or feasibly elsewhere. The subject parcels lack physical or legal access other than that owned and controlled by MHLLC and they contain no other known public values. The subject parcels have not been identified for transfer to the State or any other local government or non-profit organization and this action is strongly supported by the City of Henderson. The environmental assessment, map, and approved appraisal report covering the proposed sale are available for review at the BLM Las Vegas Field Office, Las Vegas, Nevada (LVFO).

Minerals from this parcel will be reserved in accordance with the BLM's approved Mineral Potential Report dated January 22, 1999. Minerals to be reserved to the United States are oil and gas and all saleable minerals. Acceptance of the offer to purchase will constitute an application for conveyance of the unreserved “no known value” mineral interests. In conjunction with the final payment, the applicant for unreserved “no known value” mineral interests will be required to pay a $50.00 non-refundable filing fee for processing the conveyance of the unreserved “no known value” mineral interest which will be sold simultaneously with the surface interests.

Terms and Conditions of Sale: The BLM sale parcels are subject to the following, with those numbered to appear in the conveyance document and are as follows:

1. All saleable and oil and gas mineral deposits are reserved to the United States; but, permittees, licensees, and lessees retain the right to prospect for, mine, and remove such minerals owned by the United States under applicable law and any regulations that the Secretary of the Interior may prescribe, including all necessary access and exit rights.

2. A right-of-way is reserved for ditches and canals constructed by authority of the United States under the Act of August 30, 1890 (43 U.S.C. 945).

3. The parcels are subject to valid existing rights.

4. The purchaser/patentee, by accepting a patent, covenants and agrees to indemnify, defend, and hold the United States harmless from any cost, damages, claims, causes of action, penalties, fines, liabilities, and judgments of any kind or nature arising from the past, present, and future acts or omissions of the patentee or their employees, agents, contractors, or lessees, or any third-party, arising out of or in connection with the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of Federal, State, and local laws and regulations that are now or may in the future become, applicable to the real property; (2) Judgments, claims or demands of any kind assessed against the United States; (3) Costs, expenses, or damages of any kind incurred by the United States; (4) Releases or threatened releases of solid or hazardous waste(s) and/or hazardous substance(s), as defined by Federal or State environmental laws; off, on, into, or under land, property, and other interests of the United States; (5) Activities by which solid waste or hazardous substances or waste, as defined by Federal and State environmental laws are generated, released, stored, used, or otherwise disposed of on the patented real property, and any cleanup response, remedial action, or other actions related in any manner to said solid or hazardous substances or wastes; or (6) Natural resource damages as defined by Federal and State law. This covenant shall be construed as running with the parcels of land patented or otherwise conveyed by the United States, and may be enforced by the United States in a court of competent jurisdiction.

5. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

The parcels are subject to reservations for road, public utilities and flood control purposes, both existing and proposed, in accordance with the local governing entities' Transportation Plans.

No warranty of any kind, express or implied, is given by the United States as to the title, physical condition, or potential uses of the parcels of land proposed for sale, and the conveyance of any such parcels will not be on a contingency basis. However, to the extent required by law, all such parcels are subject to the requirements of section 120(h) of the CERCLA.

Parcels may also be subject to applications received prior to publication of this NORA if processing the application would have no adverse affect on the marketability or on the federally approved Fair Market Value (FMV) of a parcel. Encumbrances of record, appearing in the BLM public files for the parcels proposed for sale, are available for review during business hours, 7:30 a.m. to 4:30 p.m., Monday through Friday, at the BLM LVFO.

Maps delineating the individual proposed sale parcels are available for public review at the BLM LVFO along with the appraisal.

Upon acceptance of the offer to purchase, MHLLC will submit 20% of the FMV, which has been determined to be $13,500,000, to the BLM, Las Vegas Field Office, 4701 North Torrey Pines Drive, Las Vegas, NV, 89130. Within 180 days following payment of the deposit, MHLLC will remit the balance of the FMV to BLM in the form of a certified check, money order, bank draft, or cashier's check made payable to the order of the BLM.

The BLM may accept or reject any or all offers to purchase any parcel, or may withdraw any parcel of land or interest therein from sale, if, in the opinion of the authorized officer, consummation of the sale would not be fully consistent with the FLPMA or other applicable laws or is determined to not be in the public interest.

Additional Information: In order to determine the appraised value of the parcels of land proposed to be sold, certain extraordinary assumptions may have been made as to the attributes and limitations of the land and potential effects of local regulations and policies on potential future land uses. Through publication of this NORA, the BLM gives notice that these assumptions may not be endorsed or approved by units of local government. It is the buyer's responsibility to be aware of all applicable Federal, State, and local government policies, laws, and regulations that would affect the subject lands, including any required dedication of lands for public uses. It is also the buyer's responsibility to be aware of existing or projected use of nearby properties. When conveyed out of Federal ownership, the lands will be subject to any applicable reviews and approvals by the respective unit of local government for proposed future uses, and any such reviews and approvals will be the responsibility of the buyer. Any land lacking access from a public road or highway will be conveyed as such, and future access acquisition will be the responsibility of the buyer.

Public Comments: The BLM Field Manager, Las Vegas Field Office, 4701 North Torrey Pines Drive, Las Vegas, Nevada 89130 will receive the comments of the general public and interested parties up to 45 days after publication of this Notice in the Federal Register. Facsimiles, telephone calls, and electronic mail are unacceptable means of comment submission and would not be considered as properly filed. Any adverse comments on the sale or EA will be reviewed by the State Director, who may sustain, vacate, or modify this realty action in whole or in part. In the absence of any adverse comments this realty action will become the final determination of the Department of the Interior. Any comments received during this process, as well as the commenter's name and address, will be available to the public in the administrative record and/or pursuant to a Freedom of Information Act request. You may indicate for the record that you do not wish to have your name and/or address made available to the public.

Any determination by the BLM to release or withhold the names and/or addresses of those who comment will be made on a case-by case basis. A request from a commenter to have their name and/or address withheld from public release will be honored to the extent permissible by law.

Authority: 43 C.F.R. 2711.1-2.

Dated: October 12, 2006.
Juan Palma,
Field Manager.

[FR Doc. E6-21469 Filed 12-15-06; 8:45 am]

BILLING CODE 4310-HC-P